FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011117-035.

Title: United States/Australasia Discussion Agreement.

Parties: A.P. Moller-Maersk A/S; Australia-New Zealand Direct Line; CMA CGM, S.A.; Compagnie Maritime Marfret, S.A.; Fesco Ocean Management Limited; Hamburg-Sud; Lykes Lines Limited, LLC; P&O Nedlloyd Limited; Safmarine Container Lines NV; and Wallenius Wilhelmsen Lines AS.

Filing Party: Wayne R. Rohde, Esq., Sher & Blackwell, 1850 M Street, NW., Suite 900, Washington, DC 20036.

Synopsis: The amendment clarifies the authority in the agreement and adds provisions dealing with the payment of civil penalties and governing law and arbitration.

Agreement No.: 011874-002.

Title: K-Line/Zim Space Charter Agreement.

Parties: Zim Integrated Shipping Services, Ltd. and Kawasaki Kisen Kaisha, Ltd.

Filing Party: Wayne R. Rohde, Esq., Sher & Blackwell, 1850 M Street, NW., Suite 900, Washington, DC 20036.

Synopsis: The amendment terminates K-line's allocation on the trans-Pacific leg of Zim's AMP service.

Agreement No.: 011907.

Title: ABX/APL Space Charter Agreement.

Parties: CMA CGM S.A.; APL Co. Pte Ltd.; P&O Nedlloyd Limited/P&O Nedlloyd B.V. (acting as a single party).

Filing Party: Neil M. Mayer, Esq., Hoppel, Mayer & Coleman, 1000 Connecticut Avenue, NW., Washington, DC 20036.

Synopsis: The agreement provides that CMA CGM and P&O Nedlloyd as one party will charter 200 TEUs per sailing to APL on their ABX service in the trade between the Atlantic Coast of the U.S. on the one hand and ports on the East Coast of South America, Venezuela and Colombia.

By order of the Federal Maritime Commission.
Dated: March 11, 2005.
Karen V. Gregory,
Assistant Secretary.

[FR Doc. 05-5182 Filed 3-15-05; 8:45 am]

BILLING CODE 6730-01-P